DEPARTMENT OF HOMELAND SECURITY

Coast Guard

[USCG-2003-14878]

Automatic Identification System; Expansion of Carriage Requirements for U.S. Waters

AGENCY: Coast Guard, DHS.

ACTION: Notice; request for comments; and notice of public meeting.

SUMMARY: On September 26, 2003, the Coast Guard published a notice announcing the dates and locations of three public meetings to be held to receive comments on how best to address implementation of Automatic Identification System (AIS) carriage requirements on certain navigable waters of the U.S. for vessels not on international voyages. In that notice, we did not have a specific location for the November 13, 2003, public meeting in New Bedford, MA. We are publishing that location in this notice as well as rescheduling the Seattle, WA, public meeting from December 5, 2003, to December 9, 2003. We also ask two additional questions to those previously published.

DATES: Comments and related material must reach the Docket Management Facility on or before January 5, 2004. Public meetings will be held on the following dates in the following cities:

• November 5, 2003, 9 a.m. to 12 a.m. (noon), in New Orleans, LA.

• November 13, 2003, 9:30 a.m. to 12:30 p.m., in New Bedford, MA.

• December 9, 2003, 1 p.m. to 4:30 p.m., in Seattle, WA.

ADDRESSES: Comments. You may submit comments identified by Coast Guard docket number USCG-2003-14878 to the Docket Management Facility at the U.S. Department of Transportation. To avoid duplication, please use only one of the following methods:

(1) Web Site: http://dms.dot.gov.

(2) Mail: Docket Management Facility, U.S. Department of Transportation, 400 Seventh Street SW., Washington, DC 20590-0001.

(3) Fax: (202) 493-2251.

(4) Delivery: Room PL-401 on the Plaza level of the Nassif Building, 400 Seventh Street SW., Washington, DC, between 9 a.m. and 5 p.m., Monday through Friday, except Federal holidays. The telephone number is (202) 366-9329.

Meeting: The meetings will be held at the following locations:

• New Orleans, LA—Hale Boggs Federal Building, Room B100, 501 Magazine Street, New Orleans, LA 70130.

• New Bedford, MA—New Bedford Whaling Museum, Museum Theater, 18 Johnny Cake Hill, New Bedford, MA 02740-6398.

• Seattle, WA—Northern Auditorium, 4th Floor, Federal Building, 915 Second Avenue, Seattle, WA 98174.

FOR FURTHER INFORMATION CONTACT: If you have questions on this notice, contact Mr. Jorge Arroyo, Office of Vessel Traffic Management (G-MWV-1), Coast Guard, telephone (202) 267-6277, fax (202) 267-4826 or e-mail: jarroyo@comdt.uscg.mil. If you have questions on viewing or submitting material to the docket, call Ms. Andrea M. Jenkins, Program Manager, Docket Operations, telephone (202) 366-0271.

SUPPLEMENTARY INFORMATION:

Public Participation and Request for Comments

We encourage you to respond to our request for comments by submitting comments and related materials. All comments received will be posted, without change, to http://dms.dot.gov and will include any personal information you have provided. We have an agreement with the Department of Transportation (DOT) to use the Docket Management Facility. Please see DOT's “Privacy Act” three paragraphs below.

Submitting comments: If you submit a comment, please include your name and address, identify the docket number [USCG-2003-14878], indicate the specific question you are responding to, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period.

Viewing comments and documents: To view comments, as well as documents mentioned in this notice as being available in the docket, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Questions

In addition to the eight questions that will be the topic of the meetings, published in the Federal Register (http://dmses.dot.gov/docimages/pdf88/255517_web.pdf) on September 26, 2003 (68 FR 55643), we add the two following questions:

(9) Our final rule published in the Federal Register (http://dmses.dot.gov/docimages/pdf88/257425_web.pdf) on October 22, 2003 (68 FR 60559), specifically exempted fishing vessels and certain passenger vessels from AIS carriage requirements. Other than costs, are there any specific reasons—particularly regarding safety or security—that warrant these vessels being excluded from AIS carriage? In particular, describe why these vessels should be treated differently from other commercial vessels over 65 feet in length?

(10) Recognizing that the cost of AIS are not insignificant, and are deemed by various commenters as being unreasonable, at what cost point would AIS be reasonable or not impose an undue burden?

Public Meetings

The public meetings regarding this notice on the expansion of Automatic Identification System (AIS) carriage requirements for U.S. waters will be held, respectively—

• November 5, 2003, 9 a.m. to 12 a.m. (noon), at 8th Coast Guard District, Hale Boggs Federal Building, Room B100, 501 Magazine Street, New Orleans, LA 70130.

• November 13, 2003, 9:30 a.m. to 12:30 p.m., at New Bedford Whaling Museum, Museum Theater, 18 Johnny Cake Hill, New Bedford, MA 02740-6398.

• December 9, 2003, 1 p.m. to 4:30 p.m., at 13th Coast Guard District, Federal Building, 915 Second Avenue, 4th Floor, Northern Auditorium, Seattle, WA 98174.

Dated: October 24, 2003.
Joseph J. Angelo,
Director of Standards, Marine Safety, Security and Environmental Protection.

[FR Doc. 03-27284 Filed 10-29-03; 8:45 am]

BILLING CODE 4910-15-P